DEPARTMENT OF JUSTICE

Federal Bureau of Investigation

Meeting of the Compact Council for the National Crime Prevention and Privacy Compact

AGENCY: Federal Bureau of Investigation.

ACTION: Meeting notice.

SUMMARY: The purpose of this notice is to announce a meeting of the Compact Council created by the National Crime Prevention and Privacy Compact Act of 1998 (Compact). Thus far, the federal government and nine states are parties to the Compact which governs the exchange of criminal history records for licensing, employment, and similar purposes. The Compact also provides a legal framework for the establishment of a cooperative Federal-state system to exchange such records.

Matters for discussion are expected to include: (1) Compact Record Screening Requirements, (2) National Fingerprint File State Audit and Sanctions Criteria, (3) Rap Sheet Standardization, (4) Proposed Plan—Flat Fingerprint Based Applicant Background Checks, including the merits of flat versus rolled fingerprint capabilities, (5) Proposal to Improve Service to the Noncriminal Justice Customers Seeking III Information, and (6) Definition of Administration of Criminal Justice.

The meeting will be open to the public on a first-come, first-seated basis. Any member of the public wishing to file a written statement with the Compact Council or wishing to address this session of the Compact Council should notify Mrs. Cathy L. Morrison at (304) 625-2736, at least 24 hours prior to the start of the session. The notification should contain the requestor's name and corporate designation, consumer affiliation, or government designation, along with a short statement describing the topic to be addressed, and the time needed for the presentation. Requestors will ordinarily be allowed up to 15 minutes to present a topic.

DATES AND TIMES: The Compact Council will meet in open session from 9 am until 5 pm on May 2-3, 2001 and from 9 am until 1 pm on May 4, 2001.

ADDRESSES: The meeting will take place at the Holiday Inn Old Town Scottsdale, 7353 E. Indian School Road, Scottsdale, Arizona, telephone (480) 941-2567.

FOR FURTHER INFORMATION CONTACT: Inquiries may be addressed to Mrs. Cathy L. Morrison, Interim Compact Officer, Programs Development Section, CJIS Division, FBI, 1000 Custer Hollow Road, Clarksburg, WV 26306-0147, telephone (304) 625-2736, facsimile (304) 625-5388.

Dated: March 14, 2001.
Thomas E. Bush, III,
Section Chief, Programs Development Section, Federal Bureau of Investigation.

[FR Doc. 01-7330 Filed 3-23-01; 8:45 am]

BILLING CODE 4410-02-M